DEPARTMENT OF INTERIOR

Bureau of Land Management

[LLCOF0000 L14300000.FX0000]

Notice of Intent To Prepare an Environmental Assessment To Amend the Resource Management Plan for the San Luis Resource Area for Geothermal Leasing in Colorado's San Luis Valley

AGENCY: Bureau of Land Management, Interior.

ACTION: Notice of Intent.

SUMMARY: In compliance with the National Environmental Policy Act of 1969 (NEPA), as amended, and the Federal Land Policy and Management Act (FLPMA) of 1976, as amended, the Bureau of Land Management (BLM) San Luis Valley Public Lands Center, Monte Vista, Colorado, intends to prepare an Environmental Assessment (EA) and by this notice is announcing the beginning of the scoping process to solicit public comments and identify issues.

The EA will analyze the BLM proposal to amend the San Luis Resource Area (SLRA) Resource Management Plan (RMP) of September 1991, to allocate lands as closed and open to consideration for geothermal leasing and under what conditions.

DATES: This notice initiates the public scoping process for the EA and RMP amendment. Comments on issues may be submitted in writing by October 13, 2010. The date(s) and location(s) of any scoping meetings will be announced at least 15 calendar days in advance, through local media, newspaper, and the BLM Web site at: http://www.blm.gov/co/st/en/fo/slvplc/Geothermal_Leasing.html. In order to be included in the EA and RMP amendment, all comments must be received prior to the close of the scoping period or 30 days after the last public meeting, whichever is later. We will provide additional opportunities for public participation upon publication of the EA and RMP amendment.

ADDRESSES: You may submit comments related to the EA and proposed RMP amendment for Geothermal Leasing in the BLM SLRA in Colorado's San Luis Valley by any of the following methods.

• Web site: http://www.blm.gov/co/st/en/fo/slvplc/Geothermal_Leasing.html.

• E-mail: slvplc_comments@blm.gov.

• Fax: (719) 852-6250.

• Mail: BLM, San Luis Valley Public Lands Center, 1803 West Highway 160, Monte Vista, Colorado 81144.

Documents pertinent to this proposal may be examined at the San Luis Valley Public Lands Center.

FOR FURTHER INFORMATION CONTACT: Joseph Vieira, Renewable Energy Team Project Manager, telephone (719) 852-6213; address BLM, San Luis Valley Public Lands Center, 1803 West Highway 160, Monte Vista, Colorado 81144; e-mail slvplc_comments@blm.gov.

SUPPLEMENTARY INFORMATION: The Programmatic Environmental Impact Statement (EIS) for Geothermal Leasing in the Western United States analyzed geothermal potential, leasing alternatives, and leasing stipulations for subsurface mineral estate administered by the BLM in Colorado, including lands within the SLRA RMP. The Record of Decision (ROD) for Geothermal Leasing in the Western United States amended 14 RMPs in Colorado, but did not amend the SLRA RMP due to an administrative oversight. The ROD for the Programmatic EIS can be found at the following Web site: http://www.blm.gov/wo/st/en/frog/energy/geothermal/geothermal.nationwide. The BLM proposes to amend the SLRA RMP using the NEPA analysis in the Programmatic EIS to support its decision. Review and amendment of the SLRA RMP is also necessary due to new information concerning sensitive species that are not analyzed in the existing RMP. This EA will inform the BLM SLRA RMP amendment decisions to establish resource management consistency, including stipulations and Best Management Practices, in future geothermal leasing in the SLRA.

While there is a history of geothermal leasing on lands administered by the BLM in the SLRA, the San Luis Valley Public Lands Center has not received any new nominations for competitive geothermal leasing to date.

Under the 1991 SLRA RMP, 617,380 acres of the mineral estate within the SLRA were identified as having potential for geothermal resources and allocated as open to consideration for geothermal leasing. Additionally, under the 1991 SLRA RMP the BLM established the following nondiscretionary closures, denying the development of fluid minerals, including geothermal resources:

• 320 acres within the town of Del Norte.

• 40 acres within the town of South Fork.

• 360 acres under the Recreation and Public Purpose lease to the City of Monte Vista for a city park.

• 840 acres within the Pike Stockade Historic Site.

• 3,300 acres designated as BLM wilderness.

• 16,794 acres within BLM wilderness study areas.

There are no Federal geothermal leases in effect in the planning area at this time. The issuance of a geothermal lease does not authorize any land disturbance, development, or use of the surface of the leased lands without further application, environmental review, and approval by the BLM at each stage. Rather, a lease provides a non-exclusive right to future exploration and an exclusive right to produce and use the geothermal resources within the lease area, subject to existing laws, regulations, formal orders, terms, conditions, and stipulations in or attached to the lease form, or included as conditions of approval to permits.

The purpose of this public scoping process is to determine relevant issues that will influence the scope of the environmental analysis, including alternatives, and guide the process for amending the RMP to adopt new stipulations and other conservation measures, and deciding whether, and under what conditions, to issue geothermal leases in the SLRA. This EA and RMP amendment will also serve to correct an administrative error in which the BLM SLRA was not included in the 2008 ROD document associated with the Programmatic EIS for geothermal leasing in the Western United States. This EA and RMP amendment will specifically address development of adequate protective measures and stipulations for the following:

• Geothermal resources and existing uses.

• Water resources.

• Cultural resources.

• Federally listed threatened and endangered species as well as candidate species for Federal listing.

• Species included in the BLM Colorado sensitive species list (which includes the State of Colorado, Department of Natural Resources threatened and endangered species).

• Other species of concern.

Currently, the BLM has identified the following preliminary issues:

• Impacts to water resources.

• Impacts to private and commercial geothermal uses.

• Necessary conservation measures for listed and sensitive plant and animal species and habitats.

• Necessary stipulations and potential impacts to cultural resources.

• Impacts to known geothermal resources and features in and near the potential lease areas.

• Demand for renewable energy and local economic impacts.

• Access to and across private lands.

• Impacts to critical big game winter range and other wildlife habitat.

• Visual impacts from potential development.

• Cumulative impacts associated with geothermal leasing, including the potential for exploration and development operation.

The BLM will use a combination of scoping periods, public meetings, and the NEPA process to satisfy the public involvement process required by Section 106 of the National Historic Preservation Act (16 U.S.C. 470(f)) as provided for in 36 CFR 800.2(d)(3). Native American Tribal consultations will be conducted in accordance with policy, and Tribal concerns will be given due consideration, including impacts on Indian trust assets. Federal, state, and local agencies, along with other stakeholders that may be interested or affected by the BLM's decision on this project, are invited to participate in the scoping process and, if eligible, may request or be contacted by the BLM to participate as a cooperating agency. Agencies or organizations with technical expertise or jurisdictional authority will be invited to participate as cooperating agencies during the NEPA analysis and environmental review.

The BLM will use an interdisciplinary approach to develop the plan amendment in order to consider the resource issues and concerns identified during public scoping. The planning process will include specialists with expertise in rangeland management, minerals and geology, forestry, outdoor recreation, law enforcement, archaeology, botany, wildlife, fisheries, lands and realty, hydrology, soils, vegetation, and fire. Notification of the planning process will be sent to the Governor of Colorado, county commissioners, local tribes and potentially affected members of the public. The public is encouraged to help identify questions and concerns during the scoping phase.

By this notice, the BLM is complying with requirements in 43 CFR 1610.2(c) to notify the public of potential amendments to the existing SLRA RMP. The BLM land use planning regulations require the BLM to publish, and provide for public review of, the proposed planning criteria that will guide the RMP amendment process. Planning criteria are the constraints, standards, and guidelines that determine what the BLM will or will not consider during its planning process. As such, they establish parameters and help focus analysis of the issues identified in scoping and structure the preparation of the EA and proposed RMP amendment. The BLM welcomes public comment on the following proposed planning criteria,

1. The BLM will continue to manage the SLRA in accordance with FLPMA (43 U.S.C. 1701. et seq.), other applicable laws and regulations, and all existing public land laws.

2. The BLM will use a collaborative, multi-jurisdictional approach with local, state, tribal, and Federal agencies to jointly determine the desired future condition of public lands and provide consistency with their existing plans and policies, to the extent that those plans and policies are consistent with Federal law governing the administration of public land.

3. The BLM will limit its amendment of the RMP to geothermal resource leasing and development issues and will not address management of other resources. The BLM will consider and analyze the impacts from this increased use on other BLM-managed resource values.

4. The BLM will address the socioeconomic impacts of the alternatives.

5. The amendment process will follow the FLPMA planning process and include an EA that will comply with NEPA standards, and an EIS, if a Finding of No Significant Impact cannot be reached.

6. The BLM will consider environmental protection and energy production as both are desirable and necessary objectives of sound land management practices and not to be considered mutually exclusive priorities.

7. The BLM will prepare the EA in compliance with the Geothermal Steam Act, as amended, and the legislative directives set forth in the Energy Policy Act of 2005.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

John Mehlhoff,
Acting State Director.

[FR Doc. 2010-22737 Filed 9-10-10; 8:45 am]

BILLING CODE 4310-JB-P